DEPARTMENT OF HOMELAND SECURITY

Office of the Secretary

[DHS-2005-0061]

Data Privacy and Integrity Advisory Committee

AGENCY: Office of the Secretary, Department of Homeland Security.

ACTION: Notice of Federal Advisory Committee meeting.

SUMMARY: The notice announces the date, time, location, and agenda for the next meeting of the Department of Homeland Security Data Privacy and Integrity Advisory Committee. This meeting will include a partially closed session.

DATES: This meeting will be held on Wednesday, September 28, 2005, in Bellingham, Washington.

ADDRESSES: The Department of Homeland Security Data Privacy and Integrity Advisory Committee meeting will be held in the Ballroom at the Hotel Bellwether, One Bellwether Way, Bellingham, Washington, 98225. If you wish to submit comments, you must do so by September 20, 2005. Comments must be identified by DHS-2005-0061 and may be submitted by one of the following methods:

• EPA Federal Partner EDOCKET Web site: http://www.epa.gov/feddocket. Follow instructions for submitting comments on the Web site.

• E-mail: PrivacyCommittee@dhs.gov. Include docket number in the subject line of the message.

• Fax: 571-227-4171.

• Mail: Ms. Rebecca J. Richards, Executive Director, Data Privacy and Integrity Advisory Committee, Department of Homeland Security, Arlington, VA 22202.

Instructions: All submissions received must include the Department of Homeland Security and DHS-2005-0061, the docket number for this action. All comments received will be posted without change to http://www.epa.gov/feddocket, including any personal information provided.

Docket: For access to the docket to read background documents or comments received, go to http://www.epa.gov/feddocket. You may also access the Federal eRulemaking Portal at http://www.regulations.gov.

ADDRESSES: Persons who are unable to attend or speak at the meeting may submit comments at any time.

• E-mail: PrivacyCommittee@dhs.gov.

• Fax: (571) 227-4171.

• Mail: Rebecca J. Richards, Executive Director, Data Privacy and Integrity Advisory Committee, Department of Homeland Security, Arlington, VA 22202.

All comments received will be posted without change to http://www.dhs.gov/privacy, including any personal information provided.

FOR FURTHER INFORMATION CONTACT: Nuala O'Connor Kelly, Chief Privacy Officer, or Rebecca J. Richards, Executive Director, Data Privacy and Integrity Advisory Committee, Department of Homeland Security, Arlington, VA 22202 by telephone (571) 227-3813, by facsimile (571) 227-4171, or by e-mail PrivacyCommittee@dhs.gov.

SUPPLEMENTARY INFORMATION: The Department of Homeland Security (DHS) Data Privacy and Integrity Advisory Committee (Committee) will be meeting on Wednesday, September 28, 2005, in the Ballroom at the Hotel Bellwether, One Bellwether Way, Bellingham, Washington, 98225. The meeting will begin at 8:30 a.m. and continue until 5 p.m. Although most of the meeting is open to the public, there will be a closed session between 12:30 p.m. and 2 p.m., during which Committee members will receive a sensitive briefing regarding screening programs proposed for the Transportation Security Administration's Secure Flight Program.

In the morning, the Committee will receive a report from the Chief Privacy Officer of DHS, the Federal Privacy Commissioner of Canada, and the Assistant Administrator for the Secure Flight program of the Transportation Security Administration (TSA). Reports from two of the four subcommittees, and a panel presentation about the use of radio frequency identification technology, will conclude the morning session. In the afternoon, the remaining two subcommittees will report to the Committee, and there will be a panel discussion about risk-based analysis and privacy from privacy and technology experts.

Public comments will be accepted during the meeting, between 4:30 p.m. and 5 p.m., All those who wish to testify during this time may register in advance or sign-up on the day of the meeting. In order to allow as many people as possible to testify, witnesses should limit their remarks to three minutes. Due to limited seating, any member of the public who wishes to attend the public session should provide his or her name no later than 12 p.m. E.S.T., Friday, September 23, 2005, to Rebecca J. Richards via email at PrivacyCommittee@dhs.gov, or via telephone at (571) 227-3813.

Photo identification will be required for entry on the day of the meeting to verify those individuals who have registered for the public session, and everyone who plans to attend should be present and seated by 8:15 a.m., or 1:45 p.m., if only attending the afternoon session. Registration information required for attendance will be used for verification purposes on the day of the meeting. Attendance information, including names of members of the public attending, may be made public as part of the official meeting minutes.

Persons with disabilities who require special assistance should indicate this in their admittance request and are encouraged to identify anticipated special needs as early as possible.

Although every effort will be made to accommodate all members of the public, seating is limited and will be allocated on a first-come, first-served basis.

Basis for Closure

In accordance with Section 10(d) of the Federal Advisory Committee Act, Public Law 92-463, as amended, 86 Stat. 770, the Secretary of Homeland Security has determined that a portion of this Privacy Advisory Committee meeting, as referenced above, is excluded from the Open Meetings requirement pursuant to the authority contained in 5 U.S.C. 552b(c)(9)(B).

Dated: September 9, 2005.
Nuala O'Connor Kelly,
Chief Privacy Officer.

[FR Doc. 05-18264 Filed 9-12-05; 8:45 am]

BILLING CODE 4410-10-P